DEPARTMENT OF HEALTH AND HUMAN SERVICES

Health Resources and Services Administration

Statement of Delegation of Authority

Notice is hereby given that I have delegated to the Administrator, Health Resources and Services Administration (HRSA), authorities vested in the Secretary under Title III, Part B, Section 313 of the Public Health Service Act (42 U.S.C. 245), as amended, as they pertain to the functions assigned to HRSA.

These authorities may be redelegated.

This delegation excludes the authority to issue regulations, to establish advisory councils and committees, and appoint their members, and to submit reports to Congress, and shall be exercised in accordance with the Department's applicable policies, procedures and guidelines.

In addition, I have affirmed and ratified any actions taken by the Administrator, or other HRSA officials, which involved the exercise of these authorities prior to the effective date of this delegation.

This delegation is effective upon date of signature.

Dated: September 8, 2009.
Kathleen Sebelius,
Secretary.

[FR Doc. E9-22203 Filed 9-14-09; 8:45 am]

BILLING CODE 4165-15-P